DEPARTMENT OF TRANSPORTATION

Federal Aviation Administration

14 CFR Part 39

[Docket No. FAA-2011-0306; Directorate Identifier 2010-NM-176-AD]

RIN 2120-AA64

Airworthiness Directives; BAE SYSTEMS (Operations) Limited Model 4101 Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

* * * BAE Systems (Operations) Ltd has issued Revision 33 of the AMM [airplane maintenance manual] to amend Chapter 05-10-10 by adding one new Structurally Significant Item (SSI) and increasing the repeat inspection period on another SSI. Failure to comply with this revision constitutes an unsafe condition.

The unsafe condition is failure of certain structurally significant items, including the main landing gear and the nose landing gear, which could result in reduced structural integrity of the airplane; and fuel vapor ignition sources, which could result in a fuel tank explosion and consequent loss of the airplane. The proposed AD would require actions that are intended to address the unsafe condition described in the MCAI.

DATES: We must receive comments on this proposed AD by May 23, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE SYSTEMS (Operations) Limited, Customer Information Department, Prestwick International Airport, Ayrshire, KA9 2RW, Scotland, United Kingdom; telephone +44 1292 675207; fax +44 1292 675704; e-mail RApublications@baesystems.com; Internet http://www.baesystems.com/Businesses/RegionalAircraft/index.htm. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2011-0306; Directorate Identifier 2010-NM-176-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On April 27, 2009, we issued AD 2009-10-02, Amendment 39-15897 (74 FR 21246, May 7, 2009). That AD required actions intended to address an unsafe condition on the products listed above.

Since we issued AD 2009-10-02, we have determined that new or more restrictive limitations are necessary to adequately address the identified unsafe condition.

The European Aviation Safety Agency (EASA), which is the Technical Agent for the Member States of the European Community, has issued Airworthiness Directive 2010-0098, dated May 27, 2010 (referred to after this as “the MCAI”), to correct an unsafe condition for the specified products. The MCAI states:

The Jetstream J41 Aircraft Maintenance Manual (AMM), includes the following chapters:

—05-10-10 “Airworthiness Limitations”,

—05-10-20 “Certification Maintenance Requirements”, and,

—05-10-30 “Critical Design Configuration Control Limitations (CDCCL)—Fuel System”

Compliance with these chapters has been identified as mandatory actions for continued airworthiness and EASA AD 2009-0052 was issued to require operators to comply with those instructions.

Since the issuance of that AD, BAE Systems (Operations) Ltd has issued Revision 33 of the AMM to amend Chapter 05-10-10 by adding one new Structurally Significant Item (SSI) and increasing the repeat inspection period on another SSI. Failure to comply with this revision constitutes an unsafe condition.

For the reasons described above, this [EASA] AD, which supersedes EASA AD 2009-0052, requires the implementation of the new or more restrictive maintenance requirements and/or airworthiness limitations as specified in the defined parts of Chapter 05 of the AMM at Revision 33.

The unsafe condition is failure of certain structurally significant items, including the main landing gear and the nose landing gear, which could result in reduced structural integrity of the airplane; and fuel vapor ignition sources, which could result in a fuel tank explosion and consequent loss of the airplane. You may obtain further information by examining the MCAI in the AD docket.

Relevant Service Information

BAE SYSTEMS (Operations) Limited has issued Subjects 05-10-00, 05-10-10, 05-10-20, and 05-10-30 of Chapter 05 of Jetstream Series 4100 Aircraft Maintenance Manual, Revision 33, dated February 15, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 3 products of U.S. registry.

The actions that are required by AD 2009-10-02 and retained in this proposed AD take about 1 work-hour per product, at an average labor rate of $85 per work hour. Based on these figures, the estimated cost of the currently required actions is $85 per product.

We estimate that it would take about 1 additional work-hour per product to comply with the new basic requirements of this proposed AD. The average labor rate is $85 per work-hour. Based on these figures, we estimate the cost of the proposed AD on U.S. operators to be $255, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15897 (74 FR 21246, May 7, 2009) and adding the following new AD:

BAE SYSTEMS (Operations) Limited: Docket No. FAA-2011-0306; Directorate Identifier 2010-NM-176-AD.

Comments Due Date

(a) We must receive comments by May 23, 2011.

Affected ADs

(b) This AD supersedes AD 2009-10-02, Amendment 39-15897.

Applicability

(c) This AD applies to all BAE SYSTEMS (Operations) Limited Model 4101 airplanes, certificated in any category.

Note 1: This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval of an alternative method of compliance (AMOC) according to paragraph (k) of this AD. The request should include a description of changes to the required actions that will ensure the continued operational safety of the airplane.

Subject

(d) Air Transport Association (ATA) of America Code 05.

Reason

(e) The mandatory continuing airworthiness information (MCAI) states:

* * * BAE Systems (Operations) Ltd has issued Revision 33 of the AMM [airplane maintenance manual] to amend Chapter 05-10-10 by adding one new Structurally Significant Item (SSI) and increasing the repeat inspection period on another SSI. Failure to comply with this revision constitutes an unsafe condition.

The unsafe condition is failure of certain structurally significant items, including the main landing gear and the nose landing gear, which could result in reduced structural integrity of the airplane; and fuel vapor ignition sources, which could result in a fuel tank explosion and consequent loss of the airplane.

Compliance

(f) You are responsible for having the actions required by this AD performed within the compliance times specified, unless the actions have already been done.

Restatement of Requirements of AD 2009-10-02

Revise Airworthiness Limitations Section (AWL) of Instructions for Continued Airworthiness

(g) Within 90 days after June 11, 2009 (the effective date of AD 2009-10-02): Revise the AWL section of the Instructions for Continued Airworthiness by incorporating the instructions of Subjects 05-10-10, “Airworthiness Limitations,” 05-10-20, “Certification Maintenance Requirements,” and 05-10-30, “Critical Design Configuration Control Limitations (CDCCL)—Fuel System,” of the BAE Systems (Operations) Limited Jetstream Series 4100 Airplane Maintenance Manual (AMM), Revision 31, dated February 15, 2009. Thereafter, except as provided in paragraph (k) of this AD, no alternative replacement times or inspection intervals may be approved for any affected component. Doing the actions required by paragraph (i) of this AD terminates the requirements of this paragraph.

(h) Where paragraph 2.A.(2) of Subject 05-10-10 of the BAE Systems (Operations) Limited Jetstream Series 4100 AMM, Revision 31, dated February 15, 2009, specifies that certain landing gear units “must be removed before 31st March 2008,” this AD requires compliance within 60 days after June 11, 2009.

New Requirements of This AD

Maintenance Program Revision

(i) Within 90 days after the effective date of this AD: Revise the maintenance program by incorporating Subject 05-10-10, “Airworthiness Limitations Description and Operation”; Subject 05-10-20, “Certification Maintenance Requirements Description and Operation”; and Subject 05-10-30, “Critical Design Configuration Control Limitations (CDCCL)—Fuel System Description and Operation”; of Chapter 05 of the BAE Systems (Operations) Limited Jetstream Series 4100 AMM, Revision 33, dated February 15, 2010. Doing the actions required by this paragraph terminates the requirements of paragraph (g) of this AD. The initial compliance times for the tasks are at the applicable times specified in paragraphs (i)(1), (i)(2), and (i)(3) of this AD.

(1) For replacement tasks of life limited parts specified in Subject 05-10-10, “Airworthiness Limitations Description and Operation,” of Chapter 05 of the BAE Systems (Operations) Limited Jetstream Series 4100 AMM, Revision 33, dated February 15, 2010: Prior to the applicable flight cycles (landings) or flight hours (flying hours) on the part specified in the “Mandatory Life Limits” column in Subject 05-10-10, or within 90 days after the effective date of this AD, whichever occurs later.

(2) For structurally significant item tasks specified in Subject 05-10-10, “Airworthiness Limitations Description and Operation,” of Chapter 05 of the BAE Systems (Operations) Limited Jetstream Series 4100 AMM, Revision 33, dated February 15, 2010: Prior to the accumulation of the applicable flight cycles specified in the “Initial Inspection” column in Subject 05-10-10, or within 90 days after the effective date of this AD, whichever occurs later.

(3) For certification maintenance requirements tasks specified in Subject 05-10-20, “Certification Maintenance Requirements Description and Operation,” of Chapter 05 of the BAE Systems (Operations) Limited Jetstream Series 4100 AMM, Revision 33, dated February 15, 2010: Prior to the accumulation of the applicable flight hours specified in the “Time Between Checks” column in Subject 05-10-20, or within 90 days after the effective date of this AD, whichever occurs later; except for tasks that specify “first flight of the day” in the “Time Between Checks” column in Subject 05-10-20, the initial compliance time is the first flight of the next day after doing the revision required by paragraph (i) of this AD, or within 90 days after the effective date of this AD, whichever occurs later.

No Alternative Actions, Intervals, and/or Critical Design Configuration Control Limitations (CDCCLs)

(j) After accomplishing the revision required by paragraph (i) of this AD, no alternative actions (e.g., inspections), intervals, and/or CDCCLs may be used unless the actions, intervals, and/or CDCCLs are approved as an alternative method of compliance (AMOC) in accordance with the procedures specified in paragraph (k) of this AD.

FAA AD Differences

Note 2: This AD differs from the MCAI and/or service information as follows: Although EASA Airworthiness Directive 2010-0098, dated May 27, 2010, specifies both revising the maintenance program to include limitations, and doing certain repetitive actions (e.g., inspections) and/or maintaining Critical Design Configuration Control Limitations (CDCCLs), this AD only requires the revision. Requiring a revision of the maintenance program, rather than requiring individual repetitive actions and/or maintaining CDCCLs, requires operators to record AD compliance only at the time the revision is made. Repetitive actions and/or maintaining CDCCLs specified in the airworthiness limitations must be complied with in accordance with 14 CFR 91.403(c).

Other FAA AD Provisions

(k) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue, SW., Renton, Washington 98057-3356; telephone (425) 227-1175; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to Mandatory Continuing Airworthiness Information (MCAI) European Aviation Safety Agency (EASA) Airworthiness Directive 2010-0098, dated May 27, 2010; Subjects 05-10-10, “Airworthiness Limitations,” 05-10-20, “Certification Maintenance Requirements,” and 05-10-30, “Critical Design Configuration Control Limitations (CDCCL)—Fuel System,” of the BAE Systems (Operations) Limited Jetstream Series 4100 AMM, Revision 31, dated February 15, 2009; and Subjects 05-10-00, “Time Limits Description and Operation,” 05-10-10, “Airworthiness Limitations Description and Operation,” 05-10-20, “Certification Maintenance Requirements Description and Operation,” and 05-10-30, “Critical Design Configuration Control Limitations (CDCCL)—Fuel System Description and Operation,” of Chapter 05 of the BAE Systems (Operations) Limited Jetstream Series 4100 AMM, Revision 33, dated February 15, 2010; for related information.

Issued in Renton, Washington, on March 30, 2011.
Kalene C. Yanamura,
Acting Manager, Transport Airplane Directorate, Aircraft Certification Service.

[FR Doc. 2011-8410 Filed 4-7-11; 8:45 am]

BILLING CODE 4910-13-P